NUCLEAR REGULATORY COMMISSION

[NRC-2012-0004]

Receipt of Request for Action

Notice is hereby given that by petition dated July 27, 2011, the Natural Resources Defense Council (petitioner) has requested that the U.S. Nuclear Regulatory Commission (NRC) order licensees to comply with 12 specific recommendations in the NRC Near-Term Task Force (NTTF) Report, “Recommendations for Enhancing Reactor Safety in the 21st Century,” of July 12, 2011 (Agencywide Documents Access and Management System (ADAMS) Accession No. ML111861807). As the basis for this request, the petitioner cites the NTTF Report as the rationale and basis of the petition.

The request is being treated pursuant to Title 10 of the Code of Federal Regulations (10 CFR) 2.206 of the Commission's regulations. The request has been referred to the Director of the Office of Nuclear Reactor Regulation (NRR). As provided by 10 CFR 2.206, appropriate action will be taken on this petition within a reasonable time. The petitioner declined an opportunity to address the NRR Petition Review Board (PRB). After meeting internally, the PRB's decision was to accept the petition for review. Additionally, the PRB noted that the topic of the petition is undergoing NRC review as part of the lessons-learned from the Fukushima event. The PRB intends to use the Fukushima review to inform its final decision on whether to implement the requested actions.

A copy of the petition (ADAMS Accession No. ML11216A085) is available for inspection at the NRC's Public Document Room (PDR), located at One White Flint North, Room O1-F21, 11555 Rockville Pike (first floor), Rockville, Maryland 20874. Publicly available documents created or received at the NRC are accessible electronically through ADAMS in the NRC Library at http://www.nrc.gov/reading-rm/adams.html. Persons who do not have access to ADAMS or who encounter problems in accessing the documents located in ADAMS should contact the NRC PDR Reference staff by telephone at 1-(800) 397-4209 or (301) 415-4737, or by email to PDR.Resource@nrc.gov.

Dated December 28, 2011, at Rockville, Maryland.
For the Nuclear Regulatory Commission.
Bruce A. Boger,
Deputy Director for Reactor Safety Programs, Office of Nuclear Reactor Regulation.

[FR Doc. 2012-1213 Filed 1-20-12; 8:45 am]

BILLING CODE 7590-01-P